INTERNATIONAL TRADE COMMISSION

[Investigation No. 731-TA-747 (Third Review)]

Fresh Tomatoes From Mexico; Revised Schedule for the Subject Review

AGENCY: United States International Trade Commission.

ACTION: Notice.

DATES: Effective Date: January 23, 2013.

FOR FURTHER INFORMATION CONTACT: Elizabeth Haines (202-205-3200), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On December 3, 2012, the Commission established a schedule for the institution of a five-year review concerning the suspended antidumping duty investigation on fresh tomatoes from Mexico (77 FR 71629, December 3, 2012). On December 4, 2012, the Department of Commerce extended the deadline for domestic interested parties to file a notice of intent to participate in the sunset review from December 18, 2012 to January 17, 2013. The deadline for the substantive responses was extended from January 2, 2013, to February 1, 2013. In light of the Department of Commerce's decision to extend by 30 days the deadlines for interested parties to file notice of intent to participate and substantive responses to its notice of institution in its review of fresh tomatoes from Mexico, as well as Mexican Respondents' December 5, 2012, request that the Commission extend its deadline for interested parties to respond to the Commission's Notice of Institution by 30 days, the Commission determined, on December 12, 2012, to extend the deadline for interested party responses to its Notice of Institution by 30 days from January 2, 2013 to February 1, 2013. Subsequently, on January 7, 2013, Commerce further extended the deadline for domestic interested parties to file a notice of intent to participate in the sunset review, and the deadline for substantive responses to March 1, 2013. In light of the Department of Commerce's January 7, 2013, decision to extend by the deadlines for interested parties to file notice of intent to participate and substantive responses to its notice of institution in its review of fresh tomatoes from Mexico, as well as Mexican Respondents' January 11, 2013, request that the Commission extend its deadline for interested parties to respond to the Commission's Notice of Institution, the Commission has extended the deadline for interested party responses to its Notice of Institution to March 15, 2013, and comments on the adequacy of responses may be filed with the Commission by April 30, 2013.

For further information concerning the conduct of this review and rules of general application, consult the Commission's Rules of Practice and Procedure, part 201, subparts A through E (19 CFR part 201), and part 207, subparts A, D, E, and F (19 CFR part 207), as most recently amended at 74 FR 2847 (January 16, 2009).

Authority: This review is being conducted under authority of title VII of the Tariff Act of 1930; this notice is published pursuant to section 207.21 of the Commission's rules.

By order of the Commission.
Issued: January 25, 2013.
Lisa R. Barton,
Acting Secretary to the Commission.

[FR Doc. 2013-02060 Filed 1-30-13; 8:45 am]

BILLING CODE 7020-02-P